DEPARTMENT OF ENERGY

Basic Energy Sciences Advisory Committee

AGENCY: Department of Energy, Office of Science.

ACTION: Notice of open meeting.

SUMMARY: This notice announces a meeting of the Basic Energy Sciences Advisory Committee (BESAC). Federal Advisory Committee Act (Pub. L. 92-463, 86 Stat. 770) requires that public notice of these meetings be announced in the Federal Register.

DATES: Thursday, July 26, 2012, 8:30 a.m.-5 p.m., and Friday, July 27, 2012, 9 a.m.-12 p.m.

ADDRESSES: Bethesda North Hotel and Conference Center, 5701 Marinelli Road, Bethesda, Maryland 20852.

FOR FURTHER INFORMATION CONTACT: Katie Perine, Office of Basic Energy Sciences, U.S. Department of Energy, Germantown Building, 1000 Independence Avenue SW., Washington, DC 20585; Telephone: (301) 903-6529.

SUPPLEMENTARY INFORMATION: Purpose of the Meeting: The purpose of this meeting is to provide advice and guidance with respect to the basic energy sciences research program.

Tentative Agenda: Agenda will include discussions of the following:

News from Office of Science/DOE

News from the Office of Basic Energy Sciences

Future of ARPA-E

Linac Coherent Light Source (LCLS) update

Materials Sciences and Engineering Division Committee of Visitors Report

Mesoscale Discussion

Public Participation: The meeting is open to the public. If you would like to file a written statement with the Committee, you may do so either before or after the meeting. If you would like to make oral statements regarding any of the items on the agenda, you should contact Katie Perine at (301) 903-6594 (fax) or by email at: katie.perine@science.doe.gov. Reasonable provision will be made to include the scheduled oral statements on the agenda. The Chairperson of the Committee will conduct the meeting to facilitate the orderly conduct of business. Public comment will follow the 10-minute rule.

This notice is being published less than 15 days prior to the meeting date due to programmatic issues that had to be resolved prior to the meeting date.

Minutes: The minutes of this meeting will be available for public review and copying within 45 days from the Committee's Web site at: http://science.energy.gov/bes/besac/.

Issued in Washington, DC, on July 9, 2012.
LaTanya R. Butler,
Acting Deputy Committee Management Officer.

[FR Doc. 2012-17108 Filed 7-12-12; 8:45 am]

BILLING CODE 6450-01-P